ENVIRONMENTAL PROTECTION AGENCY

40 CFR Part 52

[Region II Docket No. NJ47-227, FRL-7053-4]

Approval and Promulgation of Implementation Plans; New Jersey; Motor Vehicle Inspection and Maintenance Program

AGENCY: Environmental Protection Agency (EPA).

ACTION: Proposed rule.

SUMMARY: EPA is proposing to approve a State Implementation Plan (SIP) revision submitted by New Jersey. This revision consists of two elements necessary for EPA to grant final full approval of New Jersey's enhanced motor vehicle inspection and maintenance (I/M) program. The first element provides the State's final submittal for compliance with the National Highway Systems Designation Act (NHSDA), which allowed states to claim additional credit for their decentralized inspection and maintenance programs, provided they could validate that credit claim with actual program implementation data. The second element revises New Jersey's performance standard modeling to reflect the State's enhanced I/M program as it is currently implemented. This element satisfies a condition of EPA's May 14, 1997 conditional interim approval of New Jersey's enhanced I/M program SIP. The intended effect of this proposal is to approve the two evaluations of the enhanced I/M program, in addition to prior minor revisions to the enhanced I/M SIP, and to grant final full approval of the program. The enhanced I/M program will result in emission reductions that will help achieve attainment of the one-hour ozone standard and carbon monoxide standard.

DATES: Comments must be received on or before October 11, 2001. Public comments on this action are requested and will be considered before taking final action.

ADDRESSES: All comments should be addressed to Raymond Werner, Branch Chief, Air Programs Branch, Environmental Protection Agency, 290 Broadway, 25th Floor, New York, New York 10007-1866.

Copies of the documents relevant to this action are available for public inspection during normal business hours at the following locations: Environmental Protection Agency, Region 2 Office, Air Programs Branch, 290 Broadway, 25th Floor, New York, New York 10007-1866, and New Jersey Department of Environmental Protection, Bureau of Air Quality Planning, 401 East State Street, CN027, Trenton, New Jersey 08625.

FOR FURTHER INFORMATION CONTACT: Michael P. Moltzen, Air Programs Branch, Environmental Protection Agency, 290 Broadway, 25th Floor, New York, New York 10007-1866, (212) 637-4249.

SUPPLEMENTARY INFORMATION:

Table of Contents

1. Background

2. What is the purpose and content of New Jersey's submittal?

3. What are the criteria of New Jersey's final NHSDA Evaluation?

A. Emission Test Scores and Failure Rates

B. Repair Success Rates

C. Trigger Data Comparison

4. How have the NHSDA Evaluation criteria been met, and what are the conclusions?

A. Emission Test Scores and Failure Rates

B. Repair Success Rates

C. Trigger Data Comparison

5. What is performance standard modeling?

6. How has New Jersey modeled and met the performance standard?

7. What are the related elements associated with New Jersey's enhanced I/M program which EPA is addressing today?

8. Summary of Conclusions and Proposed Action

9. Administrative Requirements

1. Background

The Clean Air Act Amendments of 1990 (the Clean Air Act) require certain states to implement an enhanced Inspection and Maintenance (I/M) program to detect gasoline-fueled motor vehicles which exhibit excessive emissions of certain air pollutants. The enhanced I/M program includes a tailpipe exhaust analyzer and a dynomometer test which simulates realistic driving conditions. The enhanced I/M program is intended to help states meet federal health-based national ambient air quality standards (NAAQS) for ozone and carbon monoxide by requiring vehicles with excess emissions to have their emissions control systems repaired. Specifically, the Clean Air Act requires enhanced I/M programs to be implemented by states for areas which meet one or more of the following criteria:

(1) Designated as a serious, severe or extreme ozone non-attainment area with urbanized populations of 200,000 or more;

(2) Designated as a carbon monoxide non-attainment area that exceeds a 12.7 part per million (ppm) design value with urbanized populations of 200,000 or more; or,

(3) Part of a Metropolitan Statistical Area with a population of 100,000 or more in the Northeast Ozone Transport Region.

New Jersey meets all three of these criteria, and consequently has adopted, and is implementing, an enhanced I/M program state-wide.

As required by the Clean Air Act, EPA promulgated regulations, including a performance standard and program administration features, for the implementation of enhanced I/M programs. EPA's final rule on Inspection/Maintenance Program Requirements was promulgated on November 5, 1992 at 40 CFR part 51. To comply with EPA's requirements for implementation, on June 29, 1995, New Jersey submitted to EPA a SIP revision for its adopted enhanced I/M program (N.J.A.C. 7:27-15.5). That SIP revision included provisions for an inspection program whereby all 1968 and newer gasoline fueled motor vehicles, unless specifically exempt through law or regulation, would be subject to a steady-state dynamometer-based exhaust emission test known as the ASM5015. The SIP revision provided that once the program was fully implemented, all subject motor vehicles would be inspected at least once every two years (i.e., biennially). New Jersey's enhanced I/M SIP revision also accounted for a hybrid inspection network, that is, it would utilize both centralized, test-only and decentralized, test-and-repair facilities.

Regarding the emission reduction effectiveness of decentralized enhanced I/M programs, the National Highway System Designation Act of 1995 (NHSDA) included a key change to EPA's previously developed enhanced I/M rule requirements. Under the NHSDA, EPA cannot disapprove a state I/M SIP revision, nor apply an automatic discount to a state I/M SIP revision under section 182, 184 or 187 of the Clean Air Act, because the I/M program in such plan revision is decentralized, or a test-and-repair program. Accordingly, an automatic 50 percent credit discount that was originally established for decentralized programs by EPA's I/M rule was replaced with a presumptive equivalency criterion where appropriate. That criterion places the emission reduction credits for decentralized networks on par with credit assumptions for centralized networks, based upon a state's good faith estimate of reductions as provided by the NHSDA. The NHSDA allowed states to claim any reasonable amount of credit for their decentralized programs that they deemed appropriate, so long as 18 months from the approval of their enhanced I/M SIP, the State could show full implementation enhanced I/M program data substantiating their credit claim.

On March 27, 1996, New Jersey submitted a revision to its June 29, 1995 enhanced I/M SIP, modifying its enhanced I/M program design to take advantage of the additional flexibility afforded states by Congress in the NHSDA. Consequently, as part of its March 27, 1996 enhanced I/M SIP revision, New Jersey claimed 80 percent credit for the decentralized portion of its enhanced I/M program.

On May 14, 1997, (62 FR 26401) EPA granted conditional interim approval to New Jersey's enhanced I/M program based on both the State's original June 29, 1995 enhanced I/M SIP submittal and its subsequent March 27, 1996 SIP revision. That action began the 18-month period by the end of which, as required by the NHSDA, New Jersey was to demonstrate that its decentralized program was as effective as claimed. This “NHSDA clock” thus began on the effective date of the interim approval, June 13, 1997. The conditions of the May 14, 1997 interim SIP approval included requirements that the State provide final and complete test equipment specifications, test procedures and emission standards; and that the State provide enhanced I/M performance standard modeling. New Jersey made revisions to its SIP which satisfied the conditions of this approval by rectifying the two major deficiencies in its enhanced I/M SIP by January 31, 1997 and January 30, 1998, respectively. In addition, on December 14, 1998, New Jersey cured eight de minimus deficiencies identified by EPA. Fulfillment of the conditions that New Jersey provide final and complete test equipment specifications, test procedures and emission standards and the rectification of the de minimus deficiencies is discussed further in section 7. of this proposal.

The performance standard modeling which was submitted on January 30, 1998, however, was completed prior to the implementation of New Jersey's enhanced I/M program on December 13, 1999. As such, in performing this modeling, the State had to make certain assumptions regarding the I/M program's parameters, some of which later proved to be inaccurate. Subsequently, on April 23, 2001, EPA informed New Jersey that an additional submittal which included performance standard modeling more reflective of the State's program's parameters as currently implemented would be required in order to grant final approval of the enhanced I/M program. That request and its subsequent fulfillment are discussed further below in this Background section and in section 6. of this proposal.

By letter dated December 12, 1997, EPA indicated that New Jersey's 15 percent Rate of Progress Plan was disapproved for failure to meet certain commitments and found that the State had failed to implement its enhanced I/M program. Notice of this letter was published in the Federal Register on August 26, 1998 at 63 FR 45399. As a result of EPA's finding that New Jersey failed to implement the program, the NHSDA clock was effectively stopped six months after the granting of conditional interim approval. EPA's finding of failure to implement the required enhanced I/M program also began 18 and 24 month time periods after which a two-to-one emissions offset sanction and a federal highway funding sanction would be imposed, respectively, absent implementation of the enhanced I/M program. These are referred to as “the sanctions clocks.”

On November 19, 1999, New Jersey notified EPA by letter that its enhanced I/M program would be implemented on December 13, 1999. EPA had been working closely with the State during the phase-in period of the enhanced I/M program and agreed that the State would have the program implemented on December 13, 1999. Therefore, on December 17, 1999 (64 FR 70659), EPA proposed to find that the State of New Jersey had implemented its enhanced I/M program by December 13, 1999. EPA also proposed to reinstate the interim approval under Section 348 of the NHSDA of the enhanced I/M program effective on December 13, 1999. The “NHSDA clock” thus re-started on December 13, 1999 when the enhanced I/M program began being implemented; however only the remaining 12 months could be used to evaluate the program for NHSDA. This meant that New Jersey's NHSDA submittal would be due by December 13, 2000.

Also in the December 17, 1999 Federal Register, EPA published an interim final rule (64 FR 70593), which, as of December 13, 1999, stayed the application of the offset sanction and deferred the highway sanction. Clocks for both sanctions were originally started based on EPA's finding that New Jersey failed to implement the enhanced I/M program. Although New Jersey had numerous start-up problems, the program was implemented and has since become fully operational. On June 12, 2001 (66 FR 31554), EPA took final action to find that New Jersey has implemented its enhanced I/M program. As a result of that finding, the sanctions clocks related to the implementation of New Jersey's enhanced I/M program were terminated on July 12, 2001, the effective date of that action. The June 12, 2001 action also had the effect of reinstating the interim approval of New Jersey's enhanced I/M program.

As stated above, New Jersey started its enhanced I/M program on December 13, 1999. One year later, on December 13, 2000, in order to fulfill the requirement of the NHSDA that the State substantiate its decentralized program credit claim before expiration of the NHSDA clock, New Jersey submitted to EPA an interim analysis. The analysis was based on four months of inspection data in an attempt to demonstrate the effectiveness of the decentralized portion of its enhanced I/M program relative to its centralized test-only network. However, due to start-up issues encountered by the State at the beginning of the program, the data collected was insufficient for a qualitative evaluation. Since New Jersey was not in a position to submit an adequately representative NHSDA evaluation before the termination of the 18 month period, the interim approval of the I/M program under the NHSDA terminated. However, since EPA had approved the I/M program under section 110 of the Clean Air Act as well, the I/M program remained a part of the federally enforceable SIP.

Also as stated above, New Jersey's January 30, 1998 I/M SIP submittal included performance standard modeling completed prior to the implementation of New Jersey's enhanced I/M program, and which was based upon assumptions regarding the I/M program's parameters, some of which later proved to be inaccurate. As mentioned earlier in this section, on April 23, 2001, EPA sent a letter from Acting Regional Administrator William J. Muszynski to New Jersey Department of Environmental Protection Commissioner Robert C. Shinn, Jr., which included remaining actions to be completed before EPA could grant final approval to the State's ozone attainment demonstration. Because all required elements of the State's SIP must be in place and fully approved before the attainment demonstration can be approved, including the enhanced I/M program, the letter identified the two outstanding items related to that program. Specifically, EPA informed New Jersey that its final NHSDA evaluation report and its revised performance standard modeling were needed before we could take those approval actions.

2. What Is the Purpose and Content of New Jersey's Submittal?

New Jersey's May 4, 2001 proposed SIP revision submittal (the May 4, 2001 submittal) addresses EPA's April 23, 2001 letter requesting the two remaining enhanced I/M program SIP elements which are needed in order for EPA to grant final approval to the program. The overarching purpose of the May 4, 2001 submittal is to fulfill the remaining requirements necessary before EPA can grant final approval to New Jersey's enhanced I/M program.

First, the May 4, 2001 submittal provides the final evaluation report for compliance with the NHSDA, which allowed states to claim additional credit for their decentralized program networks, provided they could validate that credit claim with actual program implementation data. The May 4, 2001 submittal proposes to conclude that, based on the qualitative evaluation report, New Jersey's decentralized enhanced I/M network is at least 80% as effective as its centralized enhanced I/M network. Primary conclusions drawn from the analysis are that emission reductions after vehicle repairs consistently show greater incremental reductions for re-inspections conducted at private inspection facilities (PIFs) as compared to those conducted at centralized inspection facilities (CIFs), and that there is a consistent level of performance between CIFs and PIFs. The evaluation validates the State's original claim allowed by the NHSDA regarding the decentralized network's effectiveness.

Second, the May 4, 2001 submittal includes the State's revised performance standard modeling, which was originally submitted on January 30, 1998 to satisfy one of the conditions of EPA's May 14, 1997 interim approval of New Jersey's enhanced I/M program. The revised performance standard modeling reflects New Jersey's enhanced I/M program as it is currently implemented, whereas the original performance standard modeling submitted in 1998 made certain assumptions prior to the start-up of the enhanced I/M program which later proved to be inaccurate. The revised performance standard modeling demonstrates that New Jersey's enhanced I/M program, as currently implemented, successfully meets and exceeds EPA's low enhanced I/M program performance standard developed for all three criteria pollutants (volatile organic compounds (VOC), oxides of nitrogen ( NOX) and carbon monoxide or CO) as modeled for the year 2002.

3. What Are the Criteria of New Jersey's Final NHSDA Evaluation?

In New Jersey, motorists have the option of using either a CIF or a PIF for initial inspections and a CIF or PIF for re-inspections. For the time period New Jersey evaluated, approximately 80 percent of motorists who submitted their vehicles to enhanced emissions inspections in New Jersey chose to have their initial inspection performed at a CIF, whereas, only 20 percent chose to have that initial inspection performed at a PIF. New Jersey's final NHSDA evaluation report covers program data collected in both types of networks from July 1, 2000 to December 31, 2000. The final NHSDA evaluation report which was included in the May 4, 2001 submittal contains the results of the data analyses criteria described in this section for a full six months of enhanced I/M operational data. The following criteria were used to evaluate the program's effectiveness with respect to the 20% of vehicles which were tested at PIFs as compared with the remaining 80% tested at CIFs.

A. Emission Test Scores and Failure Rates

The database for I/M emissions test results analyzed under this criterion consisted of test data for enhanced emissions inspections (i.e., involving the ASM5015 exhaust emission test) that were collected and electronically stored on the State's Vehicle Information Database (VID). Average emission scores (in parts per million (ppm) for hydrocarbons (HC) and nitric oxide (NO, an indicator of overall NOX reductions) and percent of CO) were calculated from that test data. For each network type, the State conducted these calculations for initial ASM5015 exhaust emission tests performed between July 1 and December 31, 2000 for three conditions: when the initial test result was a failure for emissions, when the initial test result was a pass for emissions, and the overall emission result (i.e. all vehicles receiving an ASM5015 exhaust emission test, regardless of pass/fail status). The analysis was aggregated by station type (i.e., CIF and PIF).

Additional analyses were conducted to further investigate the trends found when analyzing initial emission test results for each pollutant. First, average emissions were calculated by model year and station type. Second, to further explore the initial test failure rate data, an analysis was conducted which included calculating the differences in emissions before and after repair for vehicles failing their initial test.

B. Repair Success Rates

The second criterion used to evaluate the effectiveness of the decentralized network compared to the centralized network was an analysis of the repair success rate of vehicles that failed their initial tests during the time period examined. The repair success rates were determined by comparing all initial failing tests with the test results of the “first retest after repair.” This criterion is useful in identifying possible differences in repair success between the different after-repair facility types.

C. Trigger Data Comparison

The last criterion used as part of the State's NHSDA evaluation was trigger data comparison. Typically, trigger analyses are conducted as part of a program's enforcement efforts. An analysis based on this criterion checks various results throughout the inspection process that might be symptomatic of program-compromising behavior. An example of a trigger checked as part of this criterion is an unusually low failure rate. For the purpose of ensuring that indicative criteria were included as part of the NHSDA evaluation, New Jersey selected trigger analyses used to allow the State to determine if the behavior in the PIFs and CIFs is comparable. Data used to satisfy this criterion was collected as part of initial vehicle inspections in New Jersey during the period July 1 through December 31, 2000 from both centralized and decentralized stations.

For each of the individual triggers analyzed, an index number on a scale of 0 to 100 was computed for each PIF and CIF emissions analyzer. For example, in general, a below-average failure rate would produce a lower index score than the mean value for the entire inspection network. Average trigger index numbers were then compared to provide an indication of relative performance of the decentralized network compared to the centralized network. EPA agrees that the criteria selected by the State to qualitatively evaluate the effectiveness of its decentralized enhanced I/M network relative to the centralized network are sufficient for the purposes of the NHSDA requirements.

4. How Have the NHSDA Evaluation Criteria Been Met, and What Are the Conclusions?

During the period of July 1, 2000 to December 31, 2000, New Jersey collected operational data regarding its enhanced I/M program, summarized as follows:

• 914,842 vehicles received an initial ASM5015 exhaust emission test

• 837,722 (91.6%) vehicles passed the initial ASM5015 exhaust emission test

• 77,120 (8.4%) failed the initial ASM5015 exhaust emission test

• 180,262 (19.7%) initial ASM5015 tests conducted by PIFs (test-and-repair)

• 734,580 (80.3%) initial ASM5015 tests conducted by CIFs (test-only)

A summary of the State's analysis of the data collected based on the criteria described above follows.

A. Emission Test Scores and Failure Rates

This analysis covered 914,842 vehicles receiving initial ASM5015 exhaust emission tests between July 1 and December 31, 2000. Overall, for both centralized and decentralized networks, the State found that vehicles failing the enhanced test are significantly more polluting than vehicles which pass the test. Furthermore, New Jersey found that there was a significant difference in overall average ASM5015 initial test failure rates (i.e., 7.6 percent for CIFs and 11.9 percent for PIFs). Another significant finding of the Emission Test Scores and Failure Rates analysis showed an average first repair success rate of approximately 83.9 percent in the PIFs for vehicles receiving their second test at a PIF, as compared to an average rate of approximately 56.9 percent in the CIFs for vehicles receiving their second test at a CIF.

The following conclusions can be drawn from the Emission Test Scores and Failure Rates analysis:

• Overall, the enhanced I/M program is achieving significant reductions in emissions through the effective repair of vehicles emitting unacceptable levels of air pollutants. The analyses show overall reductions of 55 percent for HC, 58 percent for NOX and 84 percent for carbon monoxide.

• The analysis of emission reductions after repairs consistently show greater incremental reductions for re-inspections conducted at PIFs as compared to those conducted at CIFs. New Jersey's evaluation concludes that repairs conducted by PIFs are more successful and effective on the first attempt as compared to any repairs conducted by either a vehicle owner or an untrained repair technician (e.g., subsequent to test failure at a CIF).

• The State concluded that test results for the two networks by model year track closely, indicating near equivalency between the network types when comparing similar model years.

B. Repair Success Rates

New Jersey found that 91.6 percent of the vehicles tested using the ASM5015 exhaust emission test passed their initial inspection. Following the second evaluation criterion described above, New Jersey analyzed the repair success rate of the 77,120 vehicles that failed this initial test during the time period examined.

New Jersey found an average first repair success rate of approximately 83.9 percent in the PIFs for vehicles receiving their second test at a PIF, as compared to an average rate of approximately 56.9 percent in the CIFs for vehicles receiving their second test at a CIF.

The State drew the following conclusions from the Repair Success Rates analysis:

• Repairs performed on vehicles tested exclusively at CIFs appear to be less effective when compared to repairs administered when a vehicle had one or both tests performed at a PIF. This is most likely attributable to the higher skill level of the technicians in the test and repair community.

• The overall repair success rates of the enhanced I/M program, regardless of the test facility, demonstrate that the program is significantly reducing vehicle emissions.

C. Trigger Data Comparison

Trigger data test results that were compared between the two networks included test data collected as part of initial vehicle inspections. As discussed in section 3.C. above, for each of the individual triggers analyzed, an index number was computed for each PIF and CIF emissions analyzer. In analyzing the trigger data, distribution of average index scores, on a scale of zero to 100, for PIFs verses CIFs was created for comparative purposes. New Jersey's analysis showed that the distributions for both the CIF and PIF analyzers are centered between index ratings of 70 and 85; however, the range of the distribution differs substantially between the facility types. While average CIF indexes are tightly grouped between 75 and 85, PIF indexes are more broadly grouped, most ranging from 55 to 85. As previously discussed, scores extending toward zero from the clustered majority of the scores indicate a higher probability of poor performance.

The State drew the following conclusions from the Trigger Data analysis:

i. The fraction of PIF analyzers with below-average scores account for a small fraction of the total volume of initial tests. The significance of this finding is that only a relatively small fraction of the initial test volume occurred at the facilities considered most likely to be engaging in questionable performance.

ii. Results show that there is little difference between the PIF and CIF networks on an average basis; i.e., all average trigger index values are similarly located in the upper 70s. It thus appears that, on average, CIFs and PIFs are achieving similar performance, based upon the selected trigger criteria.

Overall conclusions of NHSDA evaluation:

Although the NHSDA evaluation was qualitative in nature, it did allow the State to draw conclusions which substantiate the State's 80 percent PIF effectiveness credit claim. First, the State found that the analyses demonstrate that emission reductions after repairs consistently show greater incremental reductions for re-inspections conducted at PIFs as compared to those conducted at CIFs. Second, it found that these analysis all appear to demonstrate a consistent level of performance between CIFs and PIFs. Taking into consideration all the results from the various analyses, it is clear that the PIFs are meeting the State's 80 percent SIP credit claim estimation. In addition, these analyses seem to indicate that the State may have been conservative in that original estimation.

EPA agrees with New Jersey's conclusions regarding the analyses associated with each criterion chosen, as well as its overall conclusion regarding the results of the final NHSDA evaluation report. EPA proposes to approve this element of the May 4, 2001 SIP revision. EPA also proposes to find that New Jersey has fulfilled its requirements under the NHSDA regarding the substantiation of its decentralized enhanced I/M program credit claim.

5. What Is Performance Standard Modeling?

EPA included provisions for a model program, known as the performance standard, in the requirements established for enhanced I/M programs. The features of the enhanced I/M performance standard model program are used to generate the minimum performance target that a state must meet. When programmed into EPA's mobile source emission factor model (the MOBILE model), these features produce target emission factors, in grams per mile of vehicle travel, which a state's enhanced I/M program must not exceed to be deemed minimally acceptable for purposes of SIP approval. The performance standard provides a gauge by which EPA can evaluate the adequacy and effectiveness of each state's enhanced I/M program. As such, states are required to demonstrate that their enhanced I/M programs achieve applicable area-wide emission levels for the pollutants of interest that are equal to, or lower than, those which would be realized by the implementation of the performance standard model program. However, the combination of program features which make up the performance standard does not necessarily constitute a recommended program design. The use of the performance standard approach allows EPA to meet Congress's dual statutory requirements that EPA develops a performance standard based on certain statutory features and that the standard provide states with maximum flexibility to design I/M programs to meet local needs.

On September 18, 1995 (60 FR 48029), EPA amended the enhanced I/M final rule to establish an alternate, “low enhanced” I/M performance standard for those areas that can meet the Clean Air Act's requirements for Reasonable Further Progress (RFP) and attainment of either the CO and/or ozone ambient air quality standards without the benefits of the high enhanced I/M performance standard. This low enhanced performance standard is designed for areas that are required to implement enhanced I/M but do not have a major mobile source component to the air quality problem or can obtain adequate emission reductions from other sources to meet the 15% VOC emission reduction requirement and demonstrate attainment.

The low enhanced performance standard meets the Clean Air Act's requirement that it be based on centralized, annual testing of light duty cars and trucks, and checks for tampering and exhaust emissions. Nevertheless, this standard can be met with a comprehensive decentralized, test-and-repair program or a hybrid program comprised of both centralized and decentralized networks such as the program in New Jersey.

6. How Has New Jersey Modeled and Met the Performance Standard?

In compliance with the Clean Air Act, on January 30, 1998, New Jersey submitted modeling to EPA which was intended to satisfy the requirement that the enhanced I/M program meet the performance standard targets. At the time of that submittal New Jersey was required to meet the original enhanced performance standard, subsequently termed the “high” enhanced performance standard. This was a consequence of New Jersey's 1996 15 percent Rate of Progress plan, which relied on credit from a program which was to meet that standard, and which is discussed in the Background section, section 1. of this proposal.

On February 5, 1999, New Jersey submitted a revised 1996 15 percent ROP Plan, which no longer relied on the emission reduction benefits from the enhanced I/M program. Subsequently, on April 23, 1999 (64 FR 19913), EPA approved this revised 15 percent ROP plan. As such, New Jersey is currently demonstrating compliance with the Clean Air Act requirements for RFP. On April 11, 2001, New Jersey submitted to EPA a ROP Plan which demonstrates that it will meet reasonable further progress requirements for the milestone year 2002. That demonstration is based on a mix of measures which includes the current enhanced I/M program which meets the “low” enhanced performance standard. Therefore, New Jersey is only required to meet the low enhanced performance standard, discussed above in Section 5. The May 4, 2001 submittal includes modeling which demonstrates that New Jersey's enhanced I/M program as currently implemented meets EPA's low enhanced performance standard.

As required in the enhanced I/M final rule, in its May 4, 2001 submittal New Jersey's intent was to show through modeling that its enhanced I/M program is being implemented such that it meets or exceeds the low enhanced performance standard, expressed as emission levels in program area-wide average grams per vehicle mile (gpm). New Jersey is required to meet the low enhanced performance standard for the ozone precursors hydrocarbons (HC), NOX and also for CO because of its non-attainment status for ozone and CO.

EPA's enhanced I/M final rule also requires that equivalency to the performance standard be demonstrated using the most current version of EPA's mobile source emission model. New Jersey has completed its performance standard modeling using the most current model applicable for its purposes, MOBILE5a-H. A subsequent version of the model, MOBILE5b, has also been released, however, EPA allows states to continue to use the MOBILE5a version for SIP submittals and transportation conformity determinations prior to, and for a limited period after, the release of EPA's next version of the model, MOBILE6.

Both the high and low enhanced performance standards and evaluations to determine a program's performance standard compliance is based on the following parameters: network type (centralized, decentralized or a hybrid network), decentralized effectiveness or credit (as a percentage of centralized network effectiveness), program start date, test frequency, emission standards (cutpoints), vehicle model year and type coverage, exhaust emission test, emission control device inspections (visual), evaporative system function checks, pre-1981 model year stringency (i.e., failure rate), waiver rate, compliance rate, evaluation date and on-road testing (as a percentage of all subject vehicles).

Although each state must model the performance standard using specific values specified by EPA (detailed in the Technical Support Document for this proposal and at 40 CFR 51.351), the performance standard emission factor results may vary from state to state. Variations will primarily result if states decide to use state-specific vehicle registration distribution and/or state-specific Vehicle Miles Traveled (VMT) mix. In the modeling included in its May 4, 2001 submittal, New Jersey used the most recently available state-specific vehicle registration data, which was from 1999. The state-specific registration data was also used to modify the VMT mix used in the modeling so that it more accurately represented the vehicle type distribution in New Jersey. Other local parameters, such as minimum, maximum and ambient temperatures were also used in determining the emission factors associated with the low enhanced performance standard. New Jersey's modeling with these state-specific and local parameters resulted in low enhanced performance standard emission factors of 1.29 gpm, 1.41 gpm and 18.33 gpm for VOC, NOX and CO, respectively.

A discussion of the various program parameters New Jersey used to determine compliance with the low enhanced performance standard follows.

Network Type: New Jersey's enhanced I/M program is comprised of a hybrid network of both centralized test-only facilities and decentralized test-and-repair facilities. For modeling purposes, the State assumed a 70/30 split for its enhanced I/M network (that is, of those vehicles which ultimately pass inspection, either on their first test or subsequent to initial failure and repair, 70 percent of the vehicle owners passing final inspection are expected to do so at a centralized inspection facility, and the remaining 30 percent are expected to pass final inspection at a decentralized private inspection facility). As discussed in section 2. of this notice, New Jersey claimed that the decentralized portion of its enhanced I/M program would be 80 percent as effective as the centralized portion of its program. Therefore, New Jersey has assumed 80 percent credit for the decentralized portion of its program in its performance standard modeling. As discussed in Section 4. of this notice, EPA is proposing to approve the State's demonstration that its decentralized inspection network is at least 80% as effective as its centralized network. For further discussion of the methodology employed by the State in modeling its hybrid network, the reader is referred to the Technical Support Document.

Start Date: The State began implementing its enhanced I/M program on December 13, 1999. For modeling purposes, the State assumed an enhanced I/M start date of January 1, 2000.

Test Frequency: The test frequency of New Jersey's enhanced I/M program is biennial (that is, vehicle inspections are required once every two years). However, there are several types of “off-cycle” inspections which, due to their nature, result in vehicles being inspected annually, rather than biennially. Off-cycle inspections include random roadside inspections, retail and casual change of ownership inspections and courtesy inspections. In New Jersey's previous performance standard modeling, the State estimated the expected volume of “off-cycle” inspections and claimed credit for those inspections as annual, rather then biennial, inspections. The State chose to be more conservative with its current performance standard modeling, and did not include any additional benefits achieved from “off-cycle” annual inspections in the evaluation which EPA is proposing to approve in this notice.

Model Year and Vehicle Type Coverage: All gasoline-fueled vehicles in New Jersey, regardless of model year, receive some type of emissions inspection as part of the enhanced I/M program, unless specific regulatory exemptions apply through New Jersey Division of Motor Vehicle (NJDMV) regulations at N.J.A.C. 13:20-43.1. (exemptions include collector motor vehicles, low mileage vehicles, and historic motor vehicles). However, only 1981 and newer model year vehicles which are: (1) classified as light-duty gasoline-fueled motor vehicles (LDGVs), or light-duty gasoline-fueled trucks 1 and 2 (LDGT1s and LDGT2s), (2) amenable to dynamometer-based testing, and (3) not “specifically exempted” from enhanced testing, are subjected to the enhanced inspection test procedures. A more detailed discussion of the applicable exhaust and evaporative emission test for each vehicle category can be found in the Technical Support Document.

Exhaust Emission Test Type: The majority of gasoline-fueled motor vehicles inspected as part of the State's enhanced I/M program receive either an ASM5015 test or an idle test as their exhaust emission test. Specifically, the ASM5015 exhaust emission test procedure (a single mode ASM test) is performed on all 1981 and newer LDGVs, LDGT1s and LDGT2s which are amenable to dynamometer-based testing and are not specifically exempted from enhanced testing. All pre-1981 LDGVs, LDGT1s and LDGT2s, and all HDGVs, receive an idle test. New Jersey accounted for tests applicable to those model year categories in its performance standard modeling. A more detailed discussion is found in the technical support document.

Certain 1981 and newer vehicles are exempt from the ASM5015 exhaust emission testing. Certain types of the vehicles in this exempt group are subjected to a less extensive 2500 RPM exhaust emissions test. In its previous performance standard modeling submittal, the State estimated the number of vehicles that would be exempt from the ASM5015 exhaust emission test because they were not amenable to dynamometer testing (these include vehicles which employ full-time, four-wheel drive or which are installed with non-switchable traction control). This estimation was then used to determine the loss in credit attributed to these vehicles receiving a 2500 RPM test in lieu of the ASM5015 exhaust emission test. At that time, the State estimated that fraction at one (1) percent of the total number of vehicles which otherwise meet the requirements to receive the ASM5015 test. Based on its data analysis from the enhanced I/M program as currently implemented, the State significantly underestimated this percentage of vehicles that would be exempt from the ASM5015 dynamometer test. New Jersey's current program data shows that while 1,062,311 initial ASM5015 exhaust emission tests were performed from August 2000 through March 2001, there were 96,761 2500 RPM exhaust emission tests performed during the same period. This translates to 8.4 percent of the vehicles which otherwise met the requirements to receive the ASM5015 test, instead received a 2500 RPM test. For current modeling purposes, the State assumed the percentage was 10 percent to be conservative in its estimates.

The NJDMV's regulations and State statute also specifically exempt several types of vehicles that would otherwise be subjected to enhanced I/M testing from either the enhanced tests (that is, subjecting these vehicles, instead, to a less effective exhaust emission test) or from emission testing as a whole. These vehicles include: (1) low mileage vehicles, and (2) collector motor vehicles. In addition, the NJDMV's regulations maintain a vehicle category that exempts applicable vehicles from basic I/M emission testing. These vehicles are classified by the NJDMV as historic motor vehicles.

In its original performance standard modeling submittal, the State estimated that the number of low mileage vehicles in the fleet eligible for exemption would be approximately one (1) percent. Also in that submittal, the State determined that although it was not possible to determine the number of applications the State would receive under the enhanced I/M program for designation as a collector motor vehicle, it was believed the number would be insignificant, well under 1 percent. Therefore, collector motor vehicles were not accounted for in the original performance standard modeling. New Jersey also did not account for historic motor vehicles in its original performance standard modeling, as the vehicles in this category, by definition, fall well outside the 25 model year analysis window examined by the MOBILE model.

Based on its data analysis from the enhanced I/M program as currently implemented, the State determined that the number of vehicles actually applying for a low mileage exemption was, approximately 0.3 percent, seventy percent lower than the rate that was estimated in the original performance standard modeling. Because the actual rate is so small, the State did not consider the impact of these vehicles as part of the revised performance standard modeling. In addition, actual I/M program operational data indicated that the State was correct in its original assessment that the collector vehicle category would be insignificant, and therefore New Jersey also did not account for these vehicles in the revised modeling. Historic motor vehicles are not accounted for since they fall well outside the 25 model year analysis window examined by the MOBILE5a-H model. Based on the State's determinations described above, the only vehicles receiving a 2500 RPM test that are considered in the May 4, 2001 performance standard modeling are those vehicles deemed not amenable to dynamometer-based testing. Thus, 10 percent of the 1981 and newer vehicles in the State were modeled by New Jersey as receiving a 2500 RPM test instead of the ASM5015 test. Further detail on how the State modeled the effect of that ASM5015 exemption/2500 RPM testing rate can be found in the technical support document for this proposal.

Emission Standards: New Jersey assumed implementation of initial cutpoints for the ASM5015 exhaust emission test. ASM5015 cutpoints are the numeric values of the emission levels used to determine the pass/fail status of a vehicle, as compared to the measured emission test results, under the ASM5015 test. Exceeding one or more cutpoints is considered as failing the emission test. Initial ASM5015 cutpoints are less stringent than final cutpoints would be under the program.

Emission Control Device Inspections: New Jersey performs a visual inspection to determine the presence of a catalytic converter on all 1975 and newer motor vehicles, and that inspection was modeled by the State in its performance standard modeling. In addition, the State's modeling assumes that all vehicles subject to a gas cap check also receive a visual gas cap check. New Jersey also included fuel inlet restrictor testing for all applicable model years in its revised performance standard modeling. The purpose of that test is to determine whether or not a leaded gasoline pump nozzle could fit into the vehicle's gasoline inlet, allowing for the possibility of misfueling with leaded gasoline. Use of leaded gasoline inhibits the effectiveness of vehicles' catalytic converters. Although fuel inlet restrictor testing was part of the State's annual inspections since June 1990, New Jersey stopped performing inlet restrictor tests in 1994 because it was no longer possible for New Jersey motorists to obtain leaded gasoline. However, based on EPA modeling guidance (EPA-AA-TEB-94-01, User's Guide to MOBILE5, May 1994), states that have previously performed fuel inlet tests for at least one full cycle (and have required catalyst replacement upon failure) may claim the SIP credit associated with this testing without future testing. Since New Jersey met these qualifications, the State is still permitted to take emission credit for the fuel inlet restrictor test.

Evaporative System Function Checks: New Jersey's evaporative emission testing is currently limited to a pressurized gas cap test. The gas cap check is designed to insure that the gas cap seals properly and has no leaks. All gasoline-fueled motor vehicles manufactured with a sealed gas cap are subject to this pressured gas cap inspection, which New Jersey determined comprises all 1971 and later model year vehicles. However, since the MOBILE model only looks at the last 25 model years from the evaluation date, for a 2002 evaluation year, New Jersey only evaluated emissions for model years 1977 to 2002. Further detail on which vehicle categories are subject to the State's pressurized gas cap inspection can be found in the Technical Support Document. MOBILE5 does not allow a state to estimate the benefit of a gas cap test separate from the full evaporative pressure test, which New Jersey has not yet implemented as part of its enhanced I/M program. EPA has determined that the pressurized gas cap inspection accounts for 40 percent of the full pressure test benefit. New Jersey accounted for only that fraction of emission reductions attributable to the gas cap test in its performance standard modeling. Further details on the State's methodology in determining that credit can be found in the Technical Support Document. In its performance standard modeling, New Jersey also projects future emission reductions associated with the evaporative purge test for all 1981 and newer vehicles subject to the ASM5015 exhaust emission test. The purge test was designed to inspect the ability of the vehicle's evaporative control system to properly purge stored VOC vapors from the evaporative canister. However, in-use evaluation of the purge test by EPA and several states revealed significant operational problems with the administration of the purge test. Currently, New Jersey does not implement the evaporative purge test. EPA acknowledged that problems exist with the purge test in a memorandum dated November 5, 1996 from Margo T. Oge, Director, Office of Mobile Sources, to its regional Air Division Directors. In that guidance and in an addendum memorandum issued on December 23, 1996, EPA determined that this type of testing in the interim would not be required, but that EPA is allowing states who committed to performing the purge test in the future, including New Jersey, to claim the applicable emission credit in its performance standard modeling for future years.

Stringency. For modeling purposes, New Jersey assumed a 30 percent emission test failure rate for pre-1981 vehicles. EPA agrees that this is a reasonable assumption.

Waiver Rate: In accordance with 40 CFR 51.360(d)(1), each state's enhanced I/M SIP must include “a maximum waiver rate expressed as a percentage of initially failed vehicles.” The purpose of this waiver rate is to estimate emission reduction benefits in a modeling analysis. EPA's enhanced I/M performance standard assumes a 3 percent waiver rate. New Jersey also assumed a 3 percent waiver rate for 1981 and newer vehicles in its original performance standard modeling. Under New Jersey's enhanced I/M program, any vehicle that applies for a waiver must show compliance with the idle test, in addition to meeting the minimum cost expenditure. Since all pre-1981 vehicles receive the idle test as their official inspection test under the State's enhanced I/M program, these vehicles are not eligible for a waiver. Thus, New Jersey's pre-1981 model year waiver rate is effectively zero. Data from the first year of the enhanced I/M program's implementation shows that the waiver rate in New Jersey is approximately 0.3 percent, well below the 3 percent waiver rate assumed in the State's original performance standard modeling. However, for the purposes of its performance standard modeling evaluation, the State continued to assume a conservative waiver rate of 3 percent for all model years.

Compliance Rate: The compliance rate for New Jersey's basic I/M program was 96 percent. In moving to the enhanced program, the State originally assumed that transitioning from a sticker-enforced inspection program to a registration denial-enforced program increases compliance with the program by a moderate amount of 2 percent. At the time of its May 4, 2001 submittal, New Jersey did not have any validated statistical evidence which contradicted that assumed compliance rate and continues to assume a 98 percent compliance rate in the current performance standard modeling exercise. EPA believes this is a reasonable assumption.

Evaluation Date: Both the high and low enhanced performance standard model programs include evaluation dates. These were the dates by which states had to demonstrate, through modeling, that their enhanced I/M programs could attain equivalent or lower emission levels than the performance standard program. Specifically, states had to demonstrate that the emission levels achieved by their enhanced I/M program were equivalent to, or lower than, those achieved by the performance standard program by 2000 for ozone (VOC and NOX) and 2001 for CO. At the time of the Agency's May 14, 1997, conditional interim approval of New Jersey's enhanced I/M program, EPA made the determination that based on the provisions of the NHSDA, the evaluation dates in the Federal I/M rule had been superseded. The provisions of the NHSDA allow for state development of an enhanced I/M program commencing later than those dates set forth in EPA's November 5, 1992 final rule on Inspection/Maintenance Program Requirements.

Therefore, to be consistent with the intent of the NHSDA, EPA determined that the initial program evaluation for all three criteria pollutants would be for calendar year 2002. Because of the seasonal nature of New Jersey's nonattainment for ozone and carbon monoxide, the State completed its performance standard modeling for the ozone precursors VOC and NOX with an evaluation date of July 1, 2002, and for CO with an evaluation date of January 1, 2002.

Other Modeling Parameters and Assumptions: In addition to the parameters and assumptions discussed above, New Jersey made certain other assumptions necessary to complete its performance standard modeling. These assumptions are consistent across modeling New Jersey did for its own program as well as for the EPA model I/M 240 program which is used to generate the minimum performance target that a state must meet. Further detail on these additional assumptions can be found in the Technical Support Document.

Performance Standard Modeling Results: The following table shows the emission factors obtained from both the EPA model performance standard program and New Jersey's enhanced I/M program for January 1, 2002 for CO and July 1, 2002 for VOC and NOX.

Table 1.—Modeling Results
Program type | VOC (gpm) | NOX (gpm) | CO (gpm)
Low Enhanced Performance Standard | 1.48 | 1.60 | 21.58
New Jersey Program | 1.29 | 1.41 | 18.33

Overall conclusions of the performance standard modeling evaluation

Based on the State's modeling analysis, EPA agrees that New Jersey's enhanced I/M program, as currently implemented, exceeds the low enhanced I/M program performance standard for all three criteria pollutants. EPA is proposing to approve New Jersey's performance standard modeling.

7. What Are the Related Elements Associated With New Jersey's Enhanced I/M Program Which EPA Is Addressing Today?

EPA is proposing to approve certain revisions to New Jersey's enhanced I/M SIP which were made prior to the May 4, 2001 submittal. As discussed in section 1 of this notice, on May 14, 1997, EPA granted conditional interim approval to New Jersey's enhanced I/M program. In addition to the requirement that the State provide enhanced I/M performance standard modeling (which the State submitted on May 4, 2001 and which EPA is proposing to approve today), the conditions of the May 14, 1997 interim SIP approval also included additional requirements that the State provide final and complete test equipment specifications, test procedures and emission standards. On January 31, 1997, New Jersey submitted a SIP revision to satisfy those additional conditional requirements. New Jersey finalized those requirements through a succession of rule adoptions on February 3, 1997 and July 7, 1997 at New Jersey Administrative Code (N.J.A.C.) 7:27-15 (Subchapter 15, Control and Prohibition of Air Pollution from Gasoline-fueled Motor Vehicles) and N.J.A.C. 7:27B-4 (Subchapter 4, Air Test Method 4: Testing Procedures for Motor Vehicles). EPA is proposing to approve those additional requirements in today's action.

In addition to the conditional requirements discussed above, there also remained eight de minimus deficiencies related to the Clean Air Act requirements for enhanced I/M in the State's submittal. Those de minimus deficiencies did not affect the interim approval status of New Jersey's enhanced I/M program, however they did need to be rectified prior to EPA granting final approval of the program. In order to address these de minimus deficiencies, New Jersey needed to:

(1) Submit proof that adequate funding will be available throughout the life of the enhanced I/M program, as set forth in 40 CFR 51.354.

(2) Submit final requirements for inspection of fleet vehicles, as set forth in 40 CFR 51.356.

(3) Insure that quality control measures are in accordance with the requirements set forth in 40 CFR 51.359.

(4) Provide a detailed description of its motorist compliance enforcement program, as set forth in 40 CFR 51.361.

(5) Provide a description of the procedures that will ensure program quality (such as audits and training requirements), as set forth in 40 CFR 51.363.

(6) Provide final program requirements for data collection, as set forth in 40 CFR 51.365.

(7) Provide final procedures for analyzing and reporting program data, as set forth in 40 CFR 51.366.

(8) Complete the public information program, including the repair station report card, as set forth in 40 CFR 51.368.

New Jersey's December 14, 1998 enhanced I/M SIP revision was intended in part to cure these eight de minimis deficiencies identified by EPA. Two of the eight de minimus deficiencies were finalized by the State through rule adoptions on December 6, 1999 at N.J.A.C. Title 13, Chapter 20, Subchapter 43, Enhanced Motor Vehicle Inspection and Maintenance Program: de minimus deficiency #2 was cured at N.J.A.C.13:20-43.4, 43.5, and 43.6, and de minimus deficiency #4 was cured at N.J.A.C.13:20-43.16. Evidence of these corrections is contained in the docket for this rulemaking. As part of its proposal to approve New Jersey's enhanced I/M program today, EPA is now proposing to find that the State has cured the eight previously identified de minimus deficiencies.

Pertaining to de minimus deficiency #2, New Jersey has revised its regulations at N.J.A.C. 13:20-43.4 to require fleet and employee-owned motor vehicles operated on Federal facilities to comply with the I/M program requirements for the state. However, EPA is not requiring states to implement 40 CFR 51.356(a)(4), dealing with Federal installations within I/M areas, at this time. The Department of Justice has recommended to EPA that this Federal regulation be revised since it appears to grant states authority to regulate Federal installations in circumstances where the Federal government has not waived sovereign immunity. It would not be appropriate to require compliance with this regulation if it is not constitutionally authorized. EPA will be revising this provision in the future and will review state I/M SIPs with respect to this issue when this new rule is final. Therefore, for these reasons, EPA is neither proposing approval nor disapproval of the specific requirements which apply to Federal facilities at this time.

8. Summary of Conclusions and Proposed Action

This revision is being proposed under a procedure called parallel processing, whereby EPA proposes rulemaking action concurrently with the state's procedures for amending its regulations. If the proposed revision is substantially changed in areas other than those identified in this document, EPA will evaluate those changes and may publish another notice of proposed rulemaking. If no substantial changes are made other than those areas cited in this document, EPA will publish a final rulemaking on the revisions. The final rulemaking action by EPA will occur only after the SIP revision has been adopted by New Jersey and submitted formally to EPA for incorporation into the SIP.

Based on the analyses included in New Jersey's May 4, 2001 submittal, EPA concludes the following. The State's NHSDA evaluation validates New Jersey's 80% decentralized test and repair effectiveness rate credit claim. New Jersey's evaluation uses actual program implementation data to show that the decentralized portion of the network is at least 80% as effective as its centralized program, as the State previously claimed. EPA also concludes, based on New Jersey's performance standard modeling which reflects the State's enhanced I/M program as it is currently implemented, that the State's program meets the low enhanced performance standard. Based on these conclusions, EPA is proposing to approve New Jersey's May 4, 2001 SIP revision.

EPA is also proposing to approve the final and complete test equipment specifications, test procedures and emission standards that New Jersey submitted to satisfy conditions of EPA's May 14, 1997 interim approval. New Jersey made a revision to its SIP on January 31, 1997 which contained those required elements.

EPA is proposing to find that New Jersey's December 14, 1998, SIP revision submittal adequately remedies the eight de minimus deficiencies previously identified.

Finally, as a consequence of EPA's conclusions regarding the approvability of the elements summarized above, EPA is proposing to change the conditional interim status of the approval of New Jersey's enhanced I/M program to final approval.

9. Administrative Requirements

Under Executive Order 12866 (58 FR 51735, October 4, 1993), this proposed action is not a “significant regulatory action” and therefore is not subject to review by the Office of Management and Budget. This proposed action merely proposes to approve state law as meeting federal requirements and imposes no additional requirements beyond those imposed by state law. Accordingly, the Administrator certifies that this proposed rule will not have a significant economic impact on a substantial number of small entities under the Regulatory Flexibility Act (5 U.S.C. 601 et seq.). Because this rule proposes to approve pre-existing requirements under state law and does not impose any additional enforceable duty beyond that required by state law, it does not contain any unfunded mandate or significantly or uniquely affect small governments, as described in the Unfunded Mandates Reform Act of 1995 (Public Law 104-4). This proposed rule also does not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the national government and the States, or on the distribution of power and responsibilities among the various levels of government, as specified in Executive Order 13132 (64 FR 43255, August 10, 1999), because it merely proposes to approve a state rule implementing a federal standard, and does not alter the relationship or the distribution of power and responsibilities established in the Clean Air Act. This proposed rule also is not subject to Executive Order 13045 (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this proposed rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Taking's” issued under the executive order. This proposed rule does not impose an information collection burden under the provisions of the Paperwork Reduction Act of 1995 (44 U.S.C. 3501 et seq.).

Dated: August 31, 2001.
William J. Muszynski,
Acting Regional Administrator, Region 2.

[FR Doc. 01-22738 Filed 9-10-01; 8:45 am]

BILLING CODE 6560-50-P